NATIONAL SCIENCE FOUNDATION

Advisory Committee for Education and Human Resources; Notice of Meeting

In accordance with the Federal Advisory Committee Act (Pub. L. 92-463, as amended), the National Science Foundation announces the following meeting:

Name and Committee Code: Advisory Committee for Education and Human Resources (#1119).

Date and Time: May 21, 2020; 1:00 p.m.-3:00 p.m.

Place: National Science Foundation, 2415 Eisenhower Avenue, Alexandria, VA 22314 (Virtual).

To attend the meeting, all visitors must contact the Directorate for Education and Human Resources at least 48 hours prior to the meeting. The meeting is virtual. The final meeting agenda with instructions to register for the meeting will be posted to: https://www.nsf.gov/ehr/advisory.jsp.

Type of Meeting: Open.

Contact Person: Keaven M. Stevenson, National Science Foundation, 2415 Eisenhower Avenue, Room C11001, Alexandria, VA 22314; (703) 292-8600/kstevens@nsf.gov.

Summary of Minutes: Minutes and meeting materials will be available on the EHR Advisory Committee website at http://www.nsf.gov/ehr/advisory.jsp or can be obtained from Dr. Nafeesa Owens, National Science Foundation, 2415 Eisenhower Ave., Room C11000, Alexandria, VA 22314; (703) 292-8600/ehr_ac@nsf.gov.

Purpose of Meeting: To provide advice with respect to the Foundation's science, technology, engineering, and mathematics (STEM) education and human resources programming.

Agenda: Attached.

Dated: April 16, 2020.
Crystal Robinson,
Committee Management Officer.

Meeting of the Directorate for Education & Human Resources (EHR) Advisory Committee

Thursday, May 21, 2020; Location: Virtual

Members from the public must please register at least 48 hours in advance with Dr. Nafeesa Owens at ehr_ac@nsf.gov. Please provide name, title, and organization. A Zoom link will be provided.

Agenda (1:00 p.m.-3:00 p.m.)

1:00 p.m.-1:15 p.m.—Welcoming Remarks From the EHR AC Chair & the EHR Assistant Director

Marilyn Strutchens, Chair, EHR Advisory Committee and Emily R. & Gerald S. Leischuck Endowed Professor, Mildred Cheshire Fraley Distinguished Professor, Department of Curriculum and Teaching, Auburn University

Karen Marrongelle, Assistant Director, EHR

1:15 a.m.-1:40 p.m.—Session 1: NSF Response to COVID-19

Moderator: Karen Marrongelle, Assistant Director, EHR

Discussion, Questions, and Comments

1:40 p.m.-2:05 p.m.—Session 2: Committee of Visitors (COV)

Moderator: Corby Hovis, EHR COV Coordinator and Program Director

COV for the Division of Research on Learning in Formal and Informal Settings (DRL)

Introduction: Evan Heit, Division Director, DRL, EHR

Report: Okhee Lee, Professor, Steinhardt School of Culture, Education, and Human Development, New York University; and AC Subcommittee Chair and Darryl Williams, Senior Vice President of Science and Education, The Franklin Institute

Discussion and Approval

2:05 p.m.-2:45 p.m.—Session 3: EHR AC Subcommittee: STEM Education of the Future

Moderator: Robin Wright, Division Director, Division of Undergraduate Education, EHR

Report: Margaret Honey, President and CEO, New York Hall of Science, and AC Subcommittee Chair

Discussion and Approval

2:45 p.m.-3:00 p.m.—Closing Remarks

Karen Marrongelle, Assistant Director, EHR

Marilyn Strutchens, Chair, EHR Advisory Committee

[FR Doc. 2020-08428 Filed 4-20-20; 8:45 am]

BILLING CODE 7555-01-P